DEPARTMENT OF TRANSPORTATION

Federal Aviation Administration

FAA Policy Statement on Expungement of Certain Enforcement Actions

AGENCY: Federal Aviation Administration, DOT.

ACTION: Policy statement.

SUMMARY: The FAA has temporarily suspended its policy of expunging certain records of legal enforcement actions against individuals in order to ensure compliance with recent amendments to the Pilot Records Improvement Act.

DATES: This policy became effective November 1, 2010.

FOR FURTHER INFORMATION: A frequently asked questions (FAQ) page about the suspension of the expunction policy and its effects on pilots is available at: http://www.faa.gov/pilots/lic_cert/pria/guidance/pilotfaq. Further questions may be directed to 9-AGC-ExpunctionSuspension@faa.gov.

SUPPLEMENTARY INFORMATION: Background: In 1991, the FAA adopted a policy of expunging records of certain closed legal enforcement actions against individuals, see 56 FR 55,788 (Oct. 29, 1991). This includes both airman certificate holders and non-holders, such as passengers. Among other things, the policy provides that, in general, records of legal enforcement actions involving suspension of an airman certificate or a civil penalty against an individual are maintained for five years, then expunged. Cases closed with no enforcement action are expunged within ninety days. In addition, the FAA has a policy of expunging records of administrative actions after two years that was in existence at the time of and was left unchanged by the adoption of the 1991 expunction policy.

On August 1, 2010, the Airline Safety and Federal Aviation Administration Extension Act of 2010, Public Law 111-216, 124 Stat. 2348 (2010) (“Act”), was signed into law. The Act amends the Pilot Records Improvement Act (“PRIA”) by requiring the FAA to create a pilot records database. Air carriers will use this database to perform background checks on pilots before hiring them, as required by PRIA. The database will contain various types of records, including summaries of legal enforcement actions against individuals resulting in a finding by the FAA Administrator of a violation. These records must be kept by the FAA until it receives notice that the individual is deceased. The requirement to keep these records began on the date of the law's enactment, August 1, 2010.

The five-year expunction of certain legal enforcement action records is not consistent with the Act's amendments to PRIA. Although the requirement to maintain the records began on August 1, 2010, the FAA last expunged on November 1, 2010, as we began determining which records must be kept in order to comply with the law. The November 1, 2010 expunction covered records from scheduled for expunction during October. We will continue to expunge records of administrative actions and cases with no enforcement action, as PRIA does not require the FAA to put this information in the pilot record database. The FAA will determine the full effect of the Act's requirements on the expunction policy and will amend its expunction policy accordingly. The details of the amended expunction policy will be published in the Federal Register.

Issued in Washington, DC on February 4, 2011.
J. Randolph Babbitt,
Administrator.

[FR Doc. 2011-3101 Filed 2-10-11; 8:45 am]

BILLING CODE 4910-13-P